DEPARTMENT OF STATE

[Public Notice: 10469]

International Telecommunication Advisory Committee; Solicitation of Membership

AGENCY: Department of State.

ACTION: Notice.

SUMMARY: The Deputy Assistant Secretary of State for Cyber and International Communications and Information Policy (DAS), in the U.S. Department of State Bureau of Economic and Business Affairs, is accepting applications for membership on the International Telecommunication Advisory Committee (ITAC).

DATES: Applications must be received by the Department of State (at the email addresses at the end of this Notice) not later than August 12, 2018.

SUPPLEMENTARY INFORMATION: The Department of State is soliciting applications from subject matter experts who are U.S. citizens or legal permanent residents and representatives of scientific or industrial organizations that are engaged in the study of telecommunications or in the design or manufacture of equipment intended for telecommunication services, representatives of civil society organizations and academia, and individuals of any other corporation or organization engaged in telecommunications and information policy matters. Applicants should include experience participating in international organizations addressing telecommunications and information technical and policy issues, participating in U.S. preparatory activities for conferences and meetings of international organizations addressing technical and policy issues, and serving on U.S. delegations.

The ITAC is a federal advisory committee under the authority of 22 U.S.C. 2651a and 2656 and the Federal Advisory Committee Act, 5 U.S.C. Appendix. (“FACA”). The purpose of the ITAC is to advise the Department of State with respect to, and provide strategic recommendations on, communication and information policy matters related to U.S. participation in the work of the International Telecommunication Union (ITU), the Organization of American States Inter-American Telecommunication Commission (CITEL), the Organization for Economic Cooperation and Development (OECD), the Asia Pacific Economic Cooperation Telecommunications & Information Working Group (APEC TEL) and other international bodies addressing communications and information policy issues.

Members are appointed by the Department and must be U.S. citizens or legal permanent residents of the United States, who will serve as representatives of U.S. organizations. The ITAC charter calls for representative members; therefore, a prospective member must represent a company or organization. Solo members (who “represent themselves”) will not be selected. ITAC members must be versed in the complexity of international communications and information policy issues and must be able to advise the Department of State on these matters. Members are expected to use their expertise and provide candid advice.

Please note that ITAC members will not be reimbursed for travel, per diem, nor other expenses incurred in connection with their duties as ITAC members.

How to Apply: Email applications in response to this notice to the addresses at the end of this notice. Applications must contain the following information: (1) Name of applicant; (2) citizenship of the applicant; (3) organizational affiliation and title, as appropriate; (4) mailing address; (5) work telephone number; (6) email address; (7) résumé; (8) summary of qualifications for ITAC membership and (9) confirmation that your organization or company expects you to represent their interests.

This information should be emailed to: zichyfj@state.gov, and ITAC@state.gov.

FOR FURTHER INFORMATION CONTACT: Please contact Franz Zichy at 202-647-5778, zichyfj@state.gov.

Stephan A. Lang,
Acting Director, Multilateral Affairs, Cyber and International Communications and Information Policy, U.S. State Department.

[FR Doc. 2018-15626 Filed 7-20-18; 8:45 am]

BILLING CODE 4710-AE-P